SMALL BUSINESS ADMINISTRATION

[Disaster Declaration #12279 and #12280]

Iowa Disaster Number IA-00024

AGENCY: U.S. Small Business Administration.

ACTION: Amendment 3.

SUMMARY: This is an amendment of the Presidential declaration of a major disaster for the State of Iowa (FEMA-1930-DR), dated 08/14/2010.

Incident: Severe storms, flooding, and tornadoes.

Incident Period: 06/01/2010 through 08/31/2010.

Effective Date: 09/17/2010.

Physical Loan Application Deadline Date: 10/13/2010.

EIDL Loan Application Deadline Date: 05/16/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Iowa, dated 08/14/2010 is hereby amended to include the following areas as adversely affected by the disaster:

Primary Counties: (Physical Damage and Economic Injury Loans): Appanoose, Wapello.

Contiguous Counties: (Economic Injury Loans Only):

Iowa: Davis, Jefferson.

Missouri: Putnam, Schuyler.

All other information in the original declaration remains unchanged.

(Catalog of Federal Domestic Assistance Numbers 59002 and 59008)

James E. Rivera,
Associate Administrator for Disaster Assistance.

[FR Doc. 2010-23995 Filed 9-23-10; 8:45 am]

BILLING CODE 8025-01-P